DEPARTMENT OF ENERGY

Federal Energy Regulatory Commission

[Docket No. EL17-69-000]

Buffalo Dunes Wind Project, LLC, and Enel Green Power North America, Inc. Alabama Power Company, and Southern Company Services, Inc., as Agent v. Southwest Power Pool, Inc.; Notice of Complaint

Take notice that on May 1, 2017, pursuant to sections 206 and 306 of the Federal Power Act, 16 U.S.C. 824e and 825e, and Rule 206 of the Federal Energy Regulatory Commission's (Commission) Rules of Practice and Procedure, 18 CFR 385.206, Enel Green Power North America, Inc., on behalf its subsidiary, Buffalo Dunes Wind Project, LLC, and Southern Company Services, Inc., as agent for Alabama Power Company (collectively, Complainants) filed a formal complaint against Southwest Power Pool, Inc. (Respondent) alleging that Respondent's plans to allocate congestion management rights and revenues to customers with firm transmission service subject to redispatch for the upcoming 2017-2018 allocation year is unjust and unreasonable and unduly discriminatory and preferential, all as more fully explained in the complaint.

Complainants certify that a copy of the complaint and motion has been served on the contacts for Respondent as listed on the Commission's list of Corporate Officials on its Web site.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 31, 2017.

Dated: May 3, 2017.
Kimberly D. Bose,
Secretary.

[FR Doc. 2017-09336 Filed 5-8-17; 8:45 am]

BILLING CODE 6717-01-P